DEPARTMENT OF VETERANS AFFAIRS

Health Services Research and Development Service Merit Review Board; Notice of Meeting

The Department of Veterans Affairs (VA) gives notice under Public Law 92-463, Federal Advisory Committee Act, that a meeting of the Health Services Research and Development Service Merit Review Board will be held August 28-30, 2006 at the Hyatt Harborside Hotel, 101 Harborside Drive, Boston, MA. Various subcommittees of the Board will meet during that period.

Each subcommittee meeting of the Merit Review Board will be open to the public the first day from 8 a.m. until 8:30 a.m. to cover administrative matters and to discuss the general status of the program. The remaining portion of each meeting will be closed. The closed portion of the meeting will involve discussion, examination, reference to, and oral review of the research proposals and critiques.

On Monday, August 28, 2006, an orientation session will be held from 6 p.m. to 7 p.m. On Tuesday, August 29, 2006, five subcommittees will convene from 8 a.m. to 5 p.m.—Implementation and Management Research Science, Chronic Disease Management & Long Term Aging, General Health Services Research, Special Populations and the Nursing Research Initiative (NRI). On Wednesday, August 30, 2006, five subcommittees will convene from 8 a.m. to 5 p.m.—Implementation and Management Research Science (continuation), Special Populations (continuation) General Health Services Research (continuation), Chronic Disease Management (continuation) and Equity/Women's Health review group.

The purpose of Board is to review research and development applications concerned with the measurement and evaluation of health care services, the testing of new methods of health care delivery and management, and nursing research. Applications are reviewed for scientific and technical merit. Recommendations regarding funding are prepared for the Chief Research and Development Officer.

After the subcommittees meet there will be a debriefing provided to members of Health Services Research & Development Service Merit Review Board. This debriefing, by teleconference, will be to discuss the outcomes of the review sessions and to ensure the integrity and consistency of the review process.

During the closed portion of the meeting, discussion and recommendations will include qualifications of the personnel conducting the studies (the disclosure of which would constitute a clearly unwarranted invasion of personal privacy), as well as research information (the premature disclosure of which would be likely to compromise significantly the implementation of proposed agency action regarding such research projects). As provided by subsection 10(d) of Public Law 92-463, as amended by Public Law 94-409, closing portions of these meetings is in accordance with 5 U.S.C. 552b(c)(6) and (9)(B).

Those who plan to attend the open session should contact the Scientific Merit Review Program Manager (124R), Health Services Research and Development Service, Department of Veterans Affairs, 1722 Eye Street, NW., Washington, DC 20006 at least five days before the meeting. For further information, call (202) 254-0207.

By Direction of the Secretary.
Dated: May 9, 2006.
E. Philip Riggin,
Committee Management Officer.

[FR Doc. 06-4643 Filed 5-17-06; 8:45am]

BILLING CODE 8320-01-M